DEPARTMENT OF TRANSPORTATION

Surface Transportation Board

[STB Docket No. AB-398 (Sub-No. 7X)]

San Joaquin Valley Railroad Company—Abandonment Exemption—in Tulare County, CA

On February 19, 2008, San Joaquin Valley Railroad Company (SJVR) filed with the Board a petition under 49 U.S.C. 10502 for exemption from the provisions of 49 U.S.C. 10903 to abandon a 30.57-mile portion of the South Exeter Branch between milepost 268.60 at Strathmore, CA, and milepost 299.17 at Jovista, CA, in Tulare County, CA. The line traverses United States Postal Service Zip Codes 93218, 93221, 93247, 93257, 93258, 93261, 93267, and 93270, and includes the stations of Strathmore (milepost 268.60), Porterville (milepost 274.80), Elmco (milepost 280.10), Ultra (milepost 282.00), Terra Bella (milepost 282.60), Ducor (milepost 287.10), Richgrove (milepost 294.90), and Jovista (milepost 299.17).

The line does not contain federally granted rights-of-way. Any documentation in SJVR's possession will be made available promptly to those requesting it.

The interest of railroad employees will be protected by the conditions set forth in Oregon Short Line R. Co.—Abandonment—Goshen, 360 I.C.C. 91 (1979).

SJVR states that the proposed abandonment may generate comments or replies, and it requests that the Board adopt a procedural schedule in this proceeding to permit SJVR to file rebuttal to any comments or replies received. Rather than address the request at this time, however, the Board will instead allow SJVR to raise the matter again, if comments and replies in response to the petition are actually filed. Comments and replies to the petition for exemption will be due March 31, 2008. Once comments or replies are filed, SJVR may request leave to file rebuttal.

By issuing this notice, the Board is instituting an exemption proceeding pursuant to 49 U.S.C. 10502(b). A final decision will be issued by June 6, 2008.

Any OFA under 49 CFR 1152.27(b)(2) will be due no later than 10 days after service of a decision granting the petition for exemption. Each OFA must be accompanied by a $1,300 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than March 31, 2008 Each trail use request must be accompanied by a $200 filing fee. See 49 CFR 1002.2(f)(27).

All filings in response to this notice must refer to STB Docket No. AB-398 (Sub-No. 7X), and must be sent to: (1) Surface Transportation Board, 395 E Street, SW., Washington, DC 20423-0001; and (2) Louis E. Gitomer, 600 Baltimore Ave., Suite 301, Towson, MD 21204. As noted above, replies to the petition are due on or before March 31, 2008.

Persons seeking further information concerning abandonment procedures may contact the Board's Office of Government and Public Affairs at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: February 28, 2008.
By the Board, David M. Konschnik, Director, Office of Proceedings.
Anne K. Quinlan,
Acting Secretary.

[FR Doc. E8-4421 Filed 3-7-08; 8:45 am]

BILLING CODE 4915-01-P